NATIONAL AERONAUTICS AND SPACE ADMINISTRATION

[Notice: (20-066)]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation, and Engineering Committee of the NASA Advisory Council (NAC). This Committee reports to the NAC.

DATES: Tuesday, September 1, 2020, 11:00 a.m.-3:30 p.m., Eastern Time.

ADDRESSES: Meeting will be virtual only; see WebEx and dial-in information below under SUPPLEMENTARY INFORMATION.

FOR FURTHER INFORMATION CONTACT: Mr. Mike Green, Designated Federal Officer, Space Technology Mission Directorate, NASA Headquarters, Washington, DC 20546, (202) 358-4710, or g.m.green@nasa.gov.

SUPPLEMENTARY INFORMATION: As noted above, this meeting will be available by WebEx or telephonically only. If dialing in via toll number, you must use a touch-tone phone to participate in this meeting. Any interested person may join via WebEx at https://nasaenterprise.webex.com, the meeting number is 199 738 5680, and the password is n@cTIE090120. The toll number to listen by phone is +1-415-527-5035. To avoid using the toll number, after joining the WebEx meeting, select the audio connection option that says, “Call Me” and enter your phone number. If using the desktop or web app, check “Connect to audio without pressing 1 on my phone box” to connect directly to the meeting. Note: If dialing in, please “mute” your telephone. The agenda for the meeting includes the following topics:

—Space Technology Mission Directorate Update

—Nuclear Technology Portfolio Update

—Science Mission Directorate Technology Portfolio Update

—TechPort Demonstration

It is imperative that this meeting be held on this day to accommodate the scheduling priorities of the key participants.

Patricia Rausch,
Advisory Committee Management Officer, National Aeronautics and Space Administration.

[FR Doc. 2020-17070 Filed 8-4-20; 8:45 am]

BILLING CODE 7510-13-P